ENVIRONMENTAL PROTECTION AGENCY

[EPA-HQ-OW-2015-0665; FRL-9948-34-OW]

RIN 2040-ZA25

Preliminary 2016 Effluent Guidelines Program Plan

AGENCY: Environmental Protection Agency (EPA).

ACTION: Notice of availability.

SUMMARY: This notice announces the availability of the Environmental Protection Agency's (EPA) Preliminary 2016 Effluent Guidelines Program Plan (Preliminary 2016 Plan) and solicits public comment. Section 304(m) of the Clean Water Act (CWA) requires EPA to biennially publish a plan for new and revised effluent limitations guidelines, after public review and comment. The Preliminary 2016 Plan identifies any new or existing industrial categories selected for effluent guidelines or pretreatment standards and provides a schedule for their development. EPA typically publishes a preliminary plan upon which the public is invited to comment, and then publishes a final plan thereafter. The information and analyses from the 2015 Annual Review were used in developing the Preliminary 2016 Plan.

DATES: Comments must be received on or before July 27, 2016.

ADDRESSES: Submit your comments, identified by Docket ID No. EPA-HQ-OW-2015-0665, to the Federal eRulemaking Portal: http://www.regulations.gov. Follow the online instructions for submitting comments. Once submitted, comments cannot be edited or withdrawn. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, the full EPA public comment policy, information about CBI or multimedia submissions, and general guidance on making effective comments, please visit http://www.epa.gov/dockets/commenting-epa-dockets.

FOR FURTHER INFORMATION CONTACT: Mr. William F. Swietlik, Engineering and Analysis Division, Office of Water, 4303T, U.S. Environmental Protection Agency, 1200 Pennsylvania Avenue NW., Washington, DC 20460; telephone number: (202) 566-1129; fax number: (202) 566-1053; email address: swietlik.william@epa.gov.

SUPPLEMENTARY INFORMATION:

I. General Information

A. Supporting Documents—A key document providing additional information includes the 2015 Annual Effluent Guidelines Review Report.

B. How Can I Get Copies of These Documents and Other Related Information?

1. Docket. EPA has established official public dockets for these actions under Docket ID No. EPA-HQ-OW-2015-0665. The official public docket is the collection of materials that are available for public viewing at the Water Docket in the EPA Docket Center, (EPA/DC) EPA West, Room 3334, 1301 Constitution Ave. NW., Washington, DC 20460.

2. Electronic Access. You can access this Federal Register document electronically through the United States government online source for Federal regulations at http://www.regulations.gov.

3. Internet access. Copies of the supporting documents are available at http://www.epa.gov/eg/effluent-guidelines-plan.

C. What Should I Consider as I Prepare My Comments for EPA?

Tips for Preparing Your Comments. When submitting comments, remember to:

• Identify the rulemaking by docket number and other identifying information (subject heading, Federal Register date and page number).

• Follow directions—The agency might ask you to respond to specific questions or organize comments by referencing a Code of Federal Regulations (CFR) part or section number.

• Explain why you agree or disagree, suggest alternatives, and substitute language for your requested changes.

• Describe any assumptions and provide any technical information and/or data that you used.

• If you estimate potential costs or burdens, explain how you arrived at your estimate in sufficient detail to allow for it to be reproduced.

• Provide specific examples to illustrate your concerns, and suggest alternatives.

• Explain your views as clearly as possible.

• Make sure to submit your comments by the comment period deadline identified.

II. How is this document organized?

The outline of this notice follows.

A. Legal Authority

B. Summary of the Preliminary 2016 Effluent Guidelines Program Plan

C. Request for Public Comments and Information

A. Legal Authority

This notice is published under the authority of the CWA, 33 U.S.C. 1251, et seq., and in particular sections 301(d), 304(b), 304(g), 304(m), 306, 307(b), and 308 of the Act, 33 U.S.C. 1311(d), 1314(b), 1314(g), 1314(m), 1316, 1317(b), and 1318.

B. Summary of the Preliminary 2016 Effluent Guidelines Program Plan

EPA prepared the Preliminary 2016 Plan pursuant to CWA section 304(m). The Preliminary 2016 Plan provides a summary of EPA's review of effluent guidelines and pretreatment standards, consistent with CWA sections 301(d), 304(b), 304(g), 304(m), and 307(b). From these reviews, the Preliminary 2016 Plan identifies any new or existing industrial categories selected for effluent guidelines or pretreatment standards rulemakings, and provides a schedule for such rulemakings. In addition, the Preliminary 2016 Plan presents any new or existing categories of industry selected for further review and analysis. The Preliminary 2016 Plan and 2015 Annual Effluent Guidelines Review Report can be found at http://www.epa.gov/eg/effluent-guidelines-plan.

C. Request for Public Comments and Information

EPA requests comments and information on the following topics:

1. Data Sources and Methodologies

EPA solicits comments on the evaluation factors, criteria, and data sources used in conducting its 2015 Annual Review and in developing the Preliminary 2016 Plan. EPA also solicits comment on other data sources it might use in its annual reviews and biennial planning process.

2. The Preliminary 2016 Effluent Guidelines Program Plan

EPA solicits comments on its Preliminary 2016 Plan, including the data and information used to support the findings, actions, and conclusions as stated in the Preliminary 2016 Plan. Specifically, EPA solicits public comment and stakeholder input, data and information on:

(a) Industry Reviews. EPA is initiating or continuing to review wastewater discharges for the following industry categories: Iron and Steel Manufacturing; Organic Chemicals, Plastics, and Synthetic Fibers; Pulp, Paper, and Paperboard; Battery Manufacturing; and Electrical and Electronic Components Manufacturing. EPA solicits data and information regarding the discharge and treatment of pollutants identified in the Preliminary 2016 Plan from these industrial processes, as well as any other information relevant to EPA's review.

(b) Continued Study of Centralized Waste Treatment (CWT) facilities. EPA gathered information about CWT facilities across the country and identified those facilities that currently accept or have in the past accepted oil and gas extraction wastewaters. EPA included a memorandum in the record that identifies these facilities. EPA requests comment on the accuracy and completeness of the information contained in this memorandum, as well as any other information relevant to EPA's study of CWT facilities.

(c) Conventional Extraction in the Oil and Gas Industry. EPA solicits data and information for the first time on known transfers of wastewater originating from conventional oil and gas extraction facilities to Publicly Owned Treatment Works (POTWs). In particular, EPA seeks information on the extent to which this practice is occurring, including the identification of conventional oil and gas facilities which discharge to POTWs. EPA also requests information on wastewater volumes transferred to POTWs as well as information on the pollutants in these wastewater (type, concentration, etc.) and any other known characteristics of the pollutants.

(d) Produced Water Discharges in the Oil and Gas Industry. EPA solicits information for the first time on the quantity, composition, and purpose of well treatment and workover fluids in produced water discharges authorized under 40 CFR part 435, subpart E (Agricultural and Wildlife Water Use Subcategory) which, if good enough quality, can be used for wildlife or livestock watering or other agricultural uses, and are actually put to such use during periods of discharge. EPA solicits information on both conventional and unconventional oil and gas extraction. For this solicitation, “Well treatment fluids” means any fluid used to restore or improve productivity by chemically or physically altering hydrocarbon-bearing strata after a well has been drilled. “Workover fluids” means salt solutions, weighted brines, polymers, or other specialty additives used in a producing well to allow for maintenance, repair, or abandonment procedures.

3. Innovation and Technology in the Effluent Guidelines Program

EPA solicits input on ideas, approaches and information on how to design smart regulations to support emerging technologies as described in “A Strategy for American Innovation,” prepared by the National Economic Council and Office of Science and Technology Policy. October 2015. See: https://www.whitehouse.gov/sites/default/files/strategy_for_american_innovation_october_2015.pdf.

Dated: June 17, 2016.
Joel Beauvais,
Deputy Assistant Administrator, Office of Water.

[FR Doc. 2016-15133 Filed 6-24-16; 8:45 am]

BILLING CODE 6560-50-P